DEPARTMENT OF AGRICULTURE

Forest Service

Fresno County Resource Advisory Committee

AGENCY: Forest Service, USDA.

ACTION: Notice of meeting.

SUMMARY: The Fresno County Resource Advisory Committee will meet in Clovis, California. The purpose of the meeting is to discuss and to recommend project proposals for FY2002 funds regarding the Secure Rural Schools and Community Self-Determination Act of 2000 (P.L. 106-393) for expenditure of Payments to States Fresno County Title II funds.

DATES: The will be held January 21, 2003, 6:30 pm to 9:30 pm.

ADDRESSES: 1600 Tollhouse Road, California. The meeting will be held at the Sierra National Forest, Forest Supervisor's office, 1600 Tollhouse Road, Clovis, California 93611-0532. Send written comments to Nancy Fleenor, Fresno County Resource Advisory Committee Coordinator, c/o Sierra National Forest, High Sierra Ranger District, 29688 Auberry Road, Prather, CA 93651 or electronically to nfleenor@fs.fed.us.

FOR FURTHER INFORMATION CONTACT: Nancy Fleenor, Fresno County Resource Advisory Committee Coordinator, (559) 855-5355 ext. 3350.

SUPPLEMENTARY INFORMATION: The meeting is open to the public. Committee discussion is limited to Forest Service staff and Committee members. However, persons who wish to bring Payments to States Fresno County title II project matters to the attention of the Committee may file written statements with the Committee staff before or after the meeting. Public sessions will be provided and individuals who made written requests by January 21, 2003 will have the opportunity to address the Committee at those sessions. Agenda items to be covered include: (1) Review and approve the December 17, 2002 meeting notes; (2) Discuss new business of the RAC if applicable; (3) Vote to recommend funds for FY2002 Title II Projects proposals received from the public and/or the RAC members; (4) Confirm the date, location and agenda of the next meeting; (6) Public comment.

Dated: Nobember 26, 2002.
Ray Porter,
District Ranger.

[FR Doc. 02-30696 Filed 12-03-02; 8:45 am]

BILLING CODE 3410-11-M